DEPARTMENT OF COMMERCE

National Oceanic and Atmospheric Administration

[I.D. 111005D]

Pacific Fishery Management Council; December 1, 2005 Legislative Committee Meeting

AGENCY: National Marine Fisheries Service (NMFS), National Oceanic and Atmospheric Administration (NOAA), Commerce.

ACTION: Notice of public meeting.

SUMMARY: The Pacific Fishery Management Council (Council) will convene a meeting of the Legislative Committee (Committee), which is open to the public. The primary purpose of the meeting is to review Federal legislation regarding the reauthorization of the Magnuson-Stevens Fishery Conservation and Management Act (Magnuson-Stevens Act). The Committee may also review Federal and state legislative matters relative to individual quota programs, aquaculture, and other Council interests.

DATES: The Legislative Committee Meeting will be held on December 1, 2005, from 8:30 p.m. to 5 p.m.

ADDRESSES: The meeting will be held in the West Conference Room at the Pacific Fishery Management Council, 7700 NE Ambassador Place, Suite 200, Portland, OR 97220-1384, 503-820-2280.

Council address: Pacific Fishery Management Council, 7700 NE Ambassador Place, Suite 200, Portland, OR 97220-1384.

FOR FURTHER INFORMATION CONTACT: Mr. Mike Burner, Pacific Fishery Management Council Staff Officer, 503-820-2280.

SUPPLEMENTARY INFORMATION: The Legislative Committee often meets concurrently with the Council but will next meeting away from a Council meeting to allow additional time to deliberate several significant Federal legislation matters. Although not limited to the following topics, the Committee will focus on recently distributed draft legislation pertaining to the reauthorization of the MSA. Additionally, the Committee may discuss Senate Bill 1549, the Cooperative Hake Improvement and Conservation Act of 2005 introduced by U.S. Senator Gordon Smith (R-Oregon) and Senate Bill 1195, the National Offshore Aquaculture Act of 2005. Committee recommendations will be provided in a report to the Council which may form the basis for Council input on these important legislative matters.

Although nonemergency issues not contained in the meeting agenda may be discussed, those issues may not be the subject of formal action during this meeting. Action will be restricted to those issues specifically listed in this document and any issues arising after publication of this document that require emergency action under section 305(c) of the Magnuson-Stevens Act, provided the public has been notified of the intent to take final action to address the emergency.

Special Accommodations

The meeting is physically accessible to people with disabilities. Requests for sign language interpretation or other auxiliary aids should be directed to Ms. Carolyn Porter at 503-820-2280 at least 5 days prior to the meeting date.

Dated: November 10, 2005.
Tracey Thompson,
Acting Director, Office of Sustainable Fisheries, National Marine Fisheries Service.

[FR Doc. E5-6326 Filed 11-15-05; 8:45 am]

BILLING CODE 3510-22-S